CONSUMER PRODUCT SAFETY COMMISSION

[Docket No. CPSC-2012-0024]

Agency Information Collection Activities; Submission for OMB Review; Comment Request—Notification Requirements for Coal and Wood Burning Appliances

AGENCY: Consumer Product Safety Commission.

ACTION: Notice.

SUMMARY: In accordance with the requirements of the Paperwork Reduction Act (“PRA”) of 1995 (44 U.S.C. chapter 35), the Consumer Product Safety Commission (“Commission” or “CPSC”) announces that the Commission has submitted to the Office of Management and Budget (“OMB”) a request for extension of approval of a collection of information associated with notification requirements for coal and wood burning appliances (OMB No. 3041-0040). In the Federal Register of July 30, 2015 (80 FR 45509), the CPSC published a notice to announce the agency's intention to seek extension of approval of the collection of information. The Commission received no comments. Therefore, by publication of this notice, the Commission announces that CPSC has submitted to the OMB a request for extension of approval of that collection of information, without change.

DATES: Written comments on this request for extension of approval of information collection requirements should be submitted by November 16, 2015.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW., Washington, DC 20503. In addition, written comments that are sent to OMB also should be submitted electronically at http://www.regulations.gov, under Docket No. CPSC-2012-0024.

FOR FURTHER INFORMATION CONTACT: For further information contact: Robert H. Squibb, Consumer Product Safety Commission, 4330 East West Highway, Bethesda, MD 20814; (301) 504-7815, or by email to: rsquibb@cpsc.gov.

SUPPLEMENTARY INFORMATION: CPSC has submitted the following currently approved collection of information to OMB for extension:

Title: Notification Requirements for Coal and Wood Burning Appliances.

OMB Number: 3041-0040.

Type of Review: Renewal of collection.

Frequency of Response: On occasion.

Affected Public: Manufacturers and importers of coal and wood burning appliances.

Estimated Number of Respondents: An estimated five submissions annually.

Estimated Time per Response: Three hours per submission.

Total Estimated Annual Burden: 15 hours (5 submissions × 3 hours).

General Description of Collection: 16 CFR part 1406, Coal and Wood Burning Appliances—Notification of Performance and Technical Data requires that manufacturers and importers provide consumers with written notification regarding certain technical and performance information related to safety on each coal and wood burning appliance. Manufacturers are also required to provide to the Commission a copy of the notification to consumers and an explanation of all clearance distances contained in the notification. For existing models, all known manufacturers have complied with the requirements. Accordingly, there is no new burden associated with the requirements of 16 CFR part 1406, except in cases where existing models are changed or new models are introduced. Less than five submissions are estimated annually as a result of new stove models coming into the market or new firms entering the market.

Dated: October 9, 2015.
Todd A. Stevenson,
Secretary, Consumer Product Safety Commission.

[FR Doc. 2015-26333 Filed 10-15-15; 8:45 am]

BILLING CODE 6355-01-P